DEPARTMENT OF ENERGY

Federal Energy Regulatory Commission

[Docket No. RP03-6-001]

Maritimes & Northeast Pipeline, L.L.C.; Notice of Compliance Filing

November 14, 2002.

Take notice that on November 8, 2002, Maritimes & Northeast Pipeline, L.L.C. (Maritimes) tendered for filing as part of its FERC Gas Tariff, First Revised Volume No. 1, Sub 2nd First Revised Sheet No. 265 to become effective on November 1, 2002.

Maritimes proposes to comply with the Commission's October 31, 2002 Order in Docket No. RP03-6-000 by revising Tariff Sheet No. 265 to include the phrase “subject to refund” following the phrase “interim period.” In addition, Maritimes has revised the tariff sheet at issue to subtract the cost of fuel in the calculation of the Index Price.

Maritimes states that copies of this filing were mailed to all affected customers of Maritimes and interested state commissions.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-29428 Filed 11-19-02; 8:45 am]

BILLING CODE 6717-01-P